DEPARTMENT OF VETERANS AFFAIRS

Research Advisory Committee on Gulf War Veterans' Illnesses; Notice of Meeting

The Department of Veterans Affairs (VA) gives notice under Public Law 92-463 (Federal Advisory Committee Act) that the Research Advisory Committee on Gulf War Veterans' Illnesses will meet on April 11 and 12, 2002, at the Department of Veterans Affairs Central Office, 810 Vermont Avenue NW., Room 230, Washington, DC 20420. On Thursday, April 11, the meeting will begin at 8:15 a.m. and end at 5:30 p.m. On Friday, April 12, the meeting will begin at 8:15 a.m. and adjourn at 4 p.m. The meeting will be open to the public.

The purpose of the Committee is to provide advice and make recommendations to the Secretary of Veterans Affairs on proposed research studies, research plans and research strategies relating to the health consequences of military service in the Southwest Asia theater of operations during the Persian Gulf War.

The meeting will begin with a discussion of the Committee's goals and work plan, led by the Chairman, Mr. Jim Binns Jr. The Committee will receive briefings on research initiatives affecting Gulf War veterans. Those briefings will focus on epidemiology, risk factors, the nature of the disease, treatments, research policies, and other related topics. The meeting will include opportunities to discuss the material presented in the briefings, and planning for the Committee's first annual report.

Any member of the public wishing to attend the meeting or wishing further information should contact Ms. Laura O'Shea at (202) 273-5031.

Dated: March 22, 2002.
By Direction of the Secretary.
Nora E. Egan,
Committee Management Officer.

[FR Doc. 02-7655 Filed 3-28-02; 8:45 am]

BILLING CODE 8320-01-M